DEPARTMENT OF VETERANS AFFAIRS

Voluntary Service National Advisory Committee; Notice of Meetings

The Department of Veterans Affairs (VA) gives notice under the Federal Advisory Committee Act, 5 U.S.C., App. 2, that the Executive Committee of the VA Voluntary Service (VAVS) National Advisory Committee (NAC) will meet October 20-21, 2016, at the Veterans Health Administration's Conference Center, 2011 Crystal Drive, Suite 150, Arlington, Virginia. On October 20, the meeting will begin at 8:30 a.m. and end at 4:30 p.m. On October 21, the meeting will begin at 8:30 a.m. and end at 12:00 noon. The meeting is open to the public.

The Committee, comprised of fifty-three major Veteran, civic, and service organizations, advises the Secretary, through the Under Secretary for Health, on the coordination and promotion of volunteer activities and strategic partnerships within VA health care facilities, in the community, and on matters related to volunteerism and charitable giving. The Executive Committee consists of 20 representatives from the NAC member organizations.

On October 20, agenda topics will include: NAC goals and objectives; review of minutes from the May 4, 2016 Executive Committee meeting; VAVS update on the Voluntary Service program's activities; VHA Update, strategic partnership vetting; strategic partnership panel; Parke Board update; evaluations of the 2016 NAC annual meeting; review of membership criteria and process; and plans for 2017 NAC annual meeting (to include workshops and plenary sessions).

On October 21, agenda topics will include: subcommittee reports; review of standard operating procedures; review of Fiscal Year 2016 organization data; 2018 NAC annual meeting plans; and any new business.

No time will be allocated at this meeting for receiving oral presentations from the public. However, the public may submit written statements for the Committee's review to Mrs. Sabrina C. Clark, Designated Federal Officer, Voluntary Service Office (10B2A), Department of Veterans Affairs, 810 Vermont Avenue NW., Washington, DC 20420, or email at Sabrina.Clark@VA.gov. Any member of the public wishing to attend the meeting or seeking additional information should contact Mrs. Clark at (202) 461-7300.

Dated: September 28, 2016.
Jelessa M. Burney,
Federal Advisory Committee Management Officer.

[FR Doc. 2016-23920 Filed 10-3-16; 8:45 am]

BILLING CODE 8320-01-P